DEPARTMENT OF HOMELAND SECURITY

U.S. Customs and Border Protection

Accreditation of Nexeo Solutions LLC, as a Commercial Laboratory

AGENCY: U.S. Customs and Border Protection, Department of Homeland Security.

ACTION: Notice of accreditation of Nexeo Solutions LLC, as a commercial laboratory.

SUMMARY: Notice is hereby given, pursuant to CBP regulations, that Nexeo Solutions LLC, has been accredited to test petroleum and certain petroleum products for customs purposes for the next three years as of June 23, 2016.

DATES: Effective: The accreditation of Nexeo Solutions LLC, as commercial laboratory became effective on June 23, 2016. The next triennial inspection date will be scheduled for June 2019.

FOR FURTHER INFORMATION CONTACT: Dr. Justin Shey, Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.12 that Nexeo Solutions LLC, 1404 S. Houston Rd., Pasadena, TX 77502, has been accredited to test petroleum and certain petroleum products for customs purposes, in accordance with the provisions of 19 CFR 151.12. Nexeo Solutions LLC is accredited for the following laboratory analysis procedures and methods for petroleum and certain petroleum products set forth by the U.S. Customs and Border Protection Laboratory Methods (CBPL) and American Society for Testing and Materials (ASTM):

CBPL No. | ASTM | Title
27-01 | D 287 | Standard Test Method for API Gravity of Crude Petroleum and Petroleum Products (Hydrometer Method).
27-04 | D 95 | Standard Test Method for Water in Petroleum Products and Bituminous Materials by Distillation.
27-05 | D 4928 | Standard Test Method for Water in Crude Oils by Coulometric Karl Fischer Titration.
27-06 | D 473 | Standard Test Method for Sediment in Crude Oils and Fuel Oils by the Extraction Method.
27-07 | D 4807 | Standard Test Method for Sediment in Crude Oil by Membrane Filtration.
27-08 | D 86 | Standard Test Method for Distillation of Petroleum Products at Atmospheric Pressure.
27-11 | D 445 | Standard Test Method for Kinematic Viscosity of Transparent and Opaque Liquids (and Calculation of Dynamic Viscosity).
27-13 | D 4294 | Standard Test Method for Sulfur in Petroleum and Petroleum Products by Energy Dispersive X-ray Fluorescence Spectrometry.
27-48 | D 4052 | Standard Test Method for Density and Relative Density of Liquids by Digital Density Meter.
27-50 | D 93 | Standard Test Methods for Flash Point by Pensky-Martens Closed Cup Tester.
29-01 | D 3797 | Standard Test Method for Analysis of o-Xylene by Gas Chromatography.
29-02 | D 3798 | Standard Test Method for Analysis of p-Xylene by Gas Chromatography.

Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to CBPGaugersLabs@cbp.dhs.gov. Please reference the Web site listed below for a complete listing of CBP approved gaugers and accredited laboratories. http://www.cbp.gov/about/labs-scientific/commercial-gaugers-and-laboratories.

Dated: May 12, 2017.
Ira S. Reese,
Executive Director, Laboratories and Scientific Services Directorate.

[FR Doc. 2017-10812 Filed 5-25-17; 8:45 am]

BILLING CODE 9111-14-P